DEPARTMENT OF THE INTERIOR

National Park Service

[NPS-PWR-PWRO--0315-696; 8145-8B90-SZM]

Dog Management Plan/Draft Environmental Impact Statement, Golden Gate National Recreation Area, California

AGENCY: National Park Service, Interior.

ACTION: Notice of extended public comment period for Draft Environmental Impact Statement/Dog Management Plan, Golden Gate National Recreation Area.

SUMMARY: The National Park Service has prepared a Draft Dog Management Plan and Environmental Impact Statement (Plan/DEIS). The Plan/DEIS evaluates six alternatives for dog management in 21 areas of Golden Gate National Recreation Area (GGNRA). The original Notice of Availability (published in the Federal Register on January 20, 2011) announced a 90-day public comment period. In recognition of the complexity of the document and with deference to interest from the public and interested organizations, the comment period has been extended for an additional 45 days.

SUPPLEMENTAL INFORMATION: It will not be necessary for individuals, organizations, and agencies that have already commented to do so again. All other comments must now be postmarked or transmitted no later than May 30, 2011. Respondents wishing to comment electronically may do so online (http://parkplanning.nps.gov/dogplan), or letters may be submitted via regular mail to: Frank Dean, General Superintendent, GGNRA, Ft. Mason, Bldg. 201, San Francisco, CA 94123. Up-to-date information may be obtained by contacting GGNRA at (415) 561-4947.

Before including your address, phone number, e-mail address, or other personal identifying information in your comment, you should be aware that your entire comment—including your personal identifying information—may be made publicly available at any time. While you can ask us in your comment to withhold your personal identifying information from public review, we cannot guarantee that we will be able to do so.

Dated: March 9, 2011.
Patricia L. Neubacher,
Acting Regional Director, Pacific West Region.

[FR Doc. 2011-9889 Filed 4-22-11; 8:45 am]

BILLING CODE 4312-FN-P